DEPARTMENT OF LABOR

Occupational Safety and Health Administration

[Docket No. OSHA-2006-0040]

SGS U.S. Testing Company, Inc.; Expansion of Recognition

AGENCY: Occupational Safety and Health Administration (OSHA), Labor.

ACTION: Notice.

SUMMARY: This notice announces the Occupational Safety and Health Administration's final decision expanding the recognition of SGS U.S. Testing Company, Inc., (SGSUS) as a Nationally Recognized Testing Laboratory under 29 CFR 1910.7.

DATES: The expansion of recognition becomes effective on February 7, 2008.

FOR FURTHER INFORMATION CONTACT: MaryAnn Garrahan, Director, Office of Technical Programs and Coordination Activities, NRTL Program, Occupational Safety and Health Administration, U.S. Department of Labor, 200 Constitution Avenue, NW., Room N-3655, Washington, DC 20210, or phone (202) 693-2110.

SUPPLEMENTARY INFORMATION:

Notice of Final Decision

The Occupational Safety and Health Administration (OSHA) hereby gives notice of the expansion of recognition of SGS U.S. Testing Company, Inc., (SGSUS) as a Nationally Recognized Testing Laboratory (NRTL). The expansion covers the use of additional test standards. OSHA's current scope of recognition for SGSUS may be found in the following informational Web page: http://www.osha.gov/dts/otpca/nrtl/sgs.html.

OSHA recognition of an NRTL signifies that the organization has met the legal requirements in Section 1910.7 of Title 29, Code of Federal Regulations (29 CFR 1910.7). Recognition is an acknowledgment that the organization can perform independent safety testing and certification of the specific products covered within its scope of recognition and is not a delegation or grant of government authority. As a result of recognition, employers may use products properly approved by the NRTL to meet OSHA standards that require testing and certification.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope. We maintain an informational Web page for each NRTL that details its scope of recognition. These pages can be accessed from our Web site at http://www.osha.gov/dts/otpca/nrtl/index.html.

SGSUS applied on September 28, 2005, for expansion of its recognition to add seven test standards to its scope (see Exhibit 18-2, as cited in the preliminary notice). The NRTL Program staff determined that each of these standards is an “appropriate test standard” within the meaning of 29 CFR 1910.7(c). OSHA staff performed an on-site visit of the NRTL's Fairfield site in September 2005. Based on this visit, in February 2006, the staff recommended the expansion to include the seven additional test standards (see Exhibit 18-4, as cited in the preliminary notice). Therefore, OSHA is approving these test standards for the expansion.

The preliminary notice announcing the expansion application and the SGSUS renewal application was published in the Federal Register on October 6, 2006 (71 FR 59131). Comments were requested by October 23, 2006, but no comments were received in response to this notice. However, publication of the final notice has been delayed to address matters unrelated to the expansion, which OSHA is now granting through this final notice. The renewal application will be the subject of a future notice.

The most recent application processed by OSHA specifically related to the recognition of SGSUS granted an expansion, and the final notice for this expansion was published on May 12, 2000 (65 FR 30638).

You may obtain or review copies of all public documents pertaining to the SGSUS application by contacting the Docket Office, Occupational Safety and Health Administration, U.S. Department of Labor, 200 Constitution Avenue, NW., Room N-2625, Washington, DC 20210. Docket No. OSHA-2006-0040 (formerly NRTL2-90) contains all materials in the record concerning the recognition of SGSUS.

The current address of the SGSUS facility (site) already recognized by OSHA is: SGS U.S. Testing Company, Inc., 291 Fairfield Avenue, Fairfield, New Jersey 07004.

Final Decision and Order

NRTL Program staff has examined the application, the assessor's recommendation, and other pertinent information. Based upon this examination and the assessor's recommendation, OSHA finds that SGSUS has met the requirements of 29 CFR 1910.7 for expansion of its recognition, subject to the limitation and conditions listed below. Pursuant to the authority in 29 CFR 1910.7, OSHA hereby expands the recognition of SGSUS, subject to this limitation and these conditions.

Limitation

OSHA limits the expansion of recognition of SGSUS to testing and certification of products for demonstration of conformance to the following test standards, each of which OSHA has determined is an appropriate test standard, within the meaning of 29 CFR 1910.7(c):

UL 62 Flexible Cords and Cables

UL 355 Cord Reels

UL 498 Attachment Plugs and Receptacles

UL 498A Current Taps and Adapters

UL 817 Cord Sets and Power-Supply Cords

UL 1363 Relocatable Power Taps

UL 1581 Electrical Wires, Cables, and Flexible Cords

The designations and titles of the above test standards were current at the time of the preparation of this final notice.

OSHA's recognition of SGSUS, or any NRTL, for a particular test standard is limited to equipment or materials (i.e., products) for which OSHA standards require third-party testing and certification before use in the workplace. Consequently, if a test standard also covers any product(s) for which OSHA does not require such testing and certification, an NRTL's scope of recognition does not include that product(s).

A test standard listed above may be approved as an American National Standard by the American National Standards Institute (ANSI). However, for convenience, we use the designation of the standards developing organization for the standard as opposed to the ANSI designation. Under our procedures, any NRTL recognized for an ANSI-approved test standard may use either the latest proprietary version of the test standard or the latest ANSI version of that standard. You may contact ANSI to find out whether or not a test standard is currently ANSI-approved.

Conditions

SGSUS must also abide by the following conditions of the recognition, in addition to those already required by 29 CFR 1910.7:

OSHA must be allowed access to SGSUS's facilities and records for purposes of ascertaining continuing compliance with the terms of its recognition and to investigate as OSHA deems necessary;

If SGSUS has reason to doubt the efficacy of any test standard it is using under this program, it must promptly inform the test standard developing organization of this fact and provide that organization with appropriate relevant information upon which its concerns are based;

SGSUS must not engage in or permit others to engage in any misrepresentation of the scope or conditions of its recognition. As part of this condition, SGSUS agrees that it will allow no representation that it is either a recognized or an accredited Nationally Recognized Testing Laboratory (NRTL) without clearly indicating the specific equipment or material to which this recognition is tied, or that its recognition is limited to certain products;

SGSUS must inform OSHA as soon as possible, in writing, of any change of ownership, facilities, or key personnel, and of any major changes in its operations as an NRTL, including details;

SGSUS will meet all the terms of its recognition and will always comply with all OSHA policies pertaining to this recognition; and

SGSUS will continue to meet the requirements for recognition in all areas where it has been recognized.

Signed at Washington, DC, this 30th day of January, 2008.
Edwin G. Foulke, Jr.,
Assistant Secretary for Occupational Safety and Health.

[FR Doc. E8-2199 Filed 2-6-08; 8:45 am]

BILLING CODE 4510-26-P